Memorandum of July 17, 2009

Assignment of Reporting Functions Under the Supplemental Appropriations Act, 2009

Memorandum for the Secretary of State[,] the Secretary of Defense[,] the Attorney General[, and] the Director of National Intelligence

By the authority vested in me as President by the Constitution and the laws of the United States, including section 301 of title 3, United States Code, I hereby assign the authority to perform the functions conferred upon the President by sections 319(a), (c), and (d) and sections 14103(d), (e), and (f) of the Supplemental Appropriations Act, 2009 (Public Law 111-32), as follows:

1. To the Attorney General, of providing to the Congress the reports specified in sections 319(a), 319(c)(1)-(3), and 14103(f), as well as the plan specified in section 14103(d);

2. To the Director of National Intelligence, in consultation with the Secretary of Defense, of providing to the Congress the report specified in sections 319(a), 319(c)(4)-(5), and 319(d); and

3. To the Secretary of State, in consultation with the Secretary of Defense, of providing to the Congress the information specified in section 14103(e).

The Attorney General is authorized and directed to publish this memorandum in the Federal Register.

THE WHITE HOUSE,

Washington, July 17, 2009.

[FR Doc. E9-17451

Filed 7-20-09; 8:45 am]

Billing code 4410-19-M